DEPARTMENT OF LABOR

Employment and Training Administration

Notice of Renewal of the Advisory Committee on Apprenticeship (ACA) Charter

AGENCY: Employment and Training Administration, Labor.

ACTION: Renewal of the Advisory Committee on Apprenticeship (ACA) Charter.

SUMMARY: Notice is hereby given of the renewal of a national advisory committee on apprenticeship that is necessary and in the public interest. Accordingly, the U.S. Department of Labor, the Employment and Training Administration has renewed the Advisory Committee on Apprenticeship Charter for two years and has made changes to the terms of members.

SUPPLEMENTARY INFORMATION:

Background

The Advisory Committee on Apprenticeship (ACA) is an advisory group to the Secretary of Labor, whose objective is to make recommendations on how to strengthen the Registered Apprenticeship system. The Charter is required to be renewed every two years; the current Charter expires February 20, 2009. The committee's recommendations and accomplishments have and continue to help ETA and the Secretary to transform and expand the apprenticeship model. The current Charter is being renewed with changes to the terms of members.

Summary of Revisions

The Charter is amended to better clarify the Secretary's authority to reappoint Committee members prior to the expiration of their terms. We have added introductory language to state that “to the extent practicable, members shall be appointed according to the terms of this section. However, all Committee members shall serve at the pleasure of the Secretary and members may be appointed, reappointed, and/or replaced, and their terms may be extended, changed, or terminated as the Secretary sees fit.”

In addition, the 2007 Charter states that “ * * * the expiration date of the 2-year terms shall coincide with the termination of the Charter, and the 1-year terms shall expire one month prior to the termination of the Charter.” For clarity in the language, and appropriate termination of membership terms, this section was revised to read: “* * * When the Charter is renewed prior to its expiration date, the terms will continue for the period specified in the invitation unless either the term or the Charter is terminated by the Secretary. When the Charter is not renewed prior to its expiration date, the terms offered under that Charter shall expire upon termination of the Charter.” Finally, we have made a few grammatical corrections to this section.

FOR FURTHER INFORMATION CONTACT: Mr. John V. Ladd, Administrator, Office of Apprenticeship, Employment and Training Administration, U.S. Department of Labor, Room N-5311, 200 Constitution Avenue, NW., Washington, DC 20210. Telephone: (202) 693-2796, (this is not a toll-free number).

Signed at Washington, DC, this twelfth day of January, 2009.
Brent R. Orrell,
Deputy Assistant Secretary for Employment and Training Administration.

[FR Doc. E9-842 Filed 1-15-09; 8:45 am]

BILLING CODE 4510-FR-P